DEPARTMENT OF AGRICULTURE

Farm Service Agency

7 CFR Parts 700, 702, 711, 729, 752, and 755

Commodity Credit Corporation

7 CFR Parts 1413, 1446, 1470, 1479, 1480, 1481 and 1482

RIN 0560-AH65

Removal of Obsolete Regulations

AGENCIES: Commodity Credit Corporation, Farm Service Agency, USDA.

ACTION: Final rule.

SUMMARY: This action removes regulations rendered obsolete by expiration of their statutory authority and the ending of their respective programs. There are no impacts on past or current program operations.

DATES: Effective Date: September 15, 2006.

FOR FURTHER INFORMATION CONTACT: Phillip Elder, Regulatory Review Group, Farm Service Agency, USDA, STOP 0540, 1400 Independence Avenue, SW., Washington, DC 20250-0540; Telephone: (202) 205-5851; e-mail: Phillip.Elder@usda.gov.

SUPPLEMENTARY INFORMATION:

Discussion of Final Rule

This rule removes regulations rendered obsolete by expiration of their statutory authority and the ending of their respective programs. Removal of the regulations will not impact any remaining disputes, issues or other matters regarding those programs. The regulations in effect at the time of any action governed by the subject regulations remain in effect for such matters though they are removed from the CFR. The regulations being removed and a brief description of them are as follows:

Part 700—Experimental Rural Clean Water Program

The Rural Clean Water Program (RCWP) was authorized by the Agriculture, Rural Development and Related Agencies Appropriations Act, 1980, Public Law 96-108. The RCWP provided financial and technical assistance through contracts of 3 to 10 years to install best management practices in areas which have critical water quality problems resulting from agricultural activities. This program was an experimental program authorized by an annual appropriation from Congress. The program was not continued and has received no funds for several years. Water quality problems resulting from agricultural activities are now dealt with through the Conservation Reserve Program (CRP) of CCC and other programs of the Department. See 7 CFR 1410(c).

Part 702—Colorado River Basin Salinity (CRSC) Control Program

The regulations in this part were authorized by section 202 of the Colorado River Basin Salinity Control Act, 43 U.S.C. 1592 (2000), which authorized FSA to identify salt-source areas in the Colorado River Basin, and develop plans for implementing conservation measures that will reduce the salt load in the Colorado River. CRSC Contracts had a term of not less than 3 nor more than 10 years. CRSC was transferred to the USDA, Natural Resources Conservation Service (NRCS) by the Department of Agriculture Reorganization Act of 1994 (Pub. L. 103-354). Therefore, no producer CRSC contracts with FSA remain in effect as these records were transferred to NRCS.

Part 711—Marketing Quota Review Regulations

This part provided procedures for the review of a producer's crop marketing quota in accordance with the Agricultural Adjustment Act of 1938, 7 U.S.C. 1301 et seq. A farmer who was dissatisfied with his quota was provided with the right to request a review by the review committee within 15 days after the date of FSA mailing to him a notice of such quota. These marketing quota review regulations are now obsolete because FSA no longer administers any marketing quota programs.

Part 729—Peanut Marketing Quotas

Sections 1309 and 1310 of the Farm Security Rural Investment Act of 2002 terminated, beginning with the 2002 crop, the marketing quota and price support program for peanuts (7 U.S.C. 7271).

Part 752—Water Bank Program

The Water Bank Program (WBP) provided payments to eligible persons for the conservation of water or related uses in important migratory waterfowl nesting and breeding areas to preserve and improve habitat for migratory waterfowl, wildlife resources, and promote comprehensive water management. The agreement period was for 10 years, renewable for additional periods of 10 years each. The WBP was transferred to NRCS by the Department of Agriculture Reorganization Act of 1994 (Pub. L. 103-354). Further, certain lands subject to a Water Bank contract were made eligible for enrollment in the FSA Conservation Reserve Program (16 U.S.C. 3831(c) and 7 CFR part 1410).

Part 755—Regional Programs—Appalachian Land Stabilization And Conservation Program

The Appalachian Land Stabilization and Conservation Program (ALSCP) authorized by the regulations at 7 CFR part 755 promoted economic growth of Appalachia and the conservation of its soil and water resources by assisting landowners, operators, or occupiers through contracts requiring changes in land use, and the establishment of conservation practices. The period to be covered by a contract was not less than 3 years or longer than 10 years. The ALSCP was terminated on October 1, 1982.

Part 1413—Hard White Wheat Incentive Program

The Hard White Wheat Incentive Program was authorized by the Farm Security and Rural Investment Act of 2002 to provide funds during the 2003 through 2005 crop years for producers of hard white wheat (7 U.S.C. 7999). The intent was to increase the production of both spring and winter varieties of hard white wheat. This program expired after the 2005 crop year.

Part 1446—Peanuts

Part 1446 contains regulations for the receiving, handling, storing, and disposition of the 1996 through 2002 crops of peanuts. Authority for this part was repealed by sections 1309 and 1310 of the Farm Security Rural Investment Act of 2002. (7 U.S.C 7271). Current peanut loan, handling, and warehousing requirements are now contained in 7 CFR parts 1421 and 1423.

Part 1470—Apple Market Loss Assistance Payment Program

The Apple Market Loss Assistance Payment Program (AMLAP) provided income assistance to the producers of the 1998, 1999, and 2000 crop of apples to compensate them for the loss of markets in the applicable years. Authority for AMLAP has expired.

Part 1479—2003-2005 Crop Disaster Program

Part 1479 governed the 2003, 2004, and 2005-Crop Disaster Program (CDP) of CCC. The CDP made disaster assistance payments to producers on eligible 2003, 2004, or 2005 crops due to disasters as provided under Division B of the Military Construction Appropriations and Emergency Hurricane Supplemental Appropriations Act, 2005, Public Law 108-324. Authority for CDP has expired.

Part 1480—2001 and 2002-Crop Disaster Program

Part 1480 set forth the regulations of the 2001 and 2002-CDP which made disaster payments to producers with eligible losses in 2001 or 2002 due to disasters under the Agricultural Assistance Act of 2003, Public Law 108-007. Authority for CDP has expired.

Part 1481—Sugar Beet Disaster Program

The Sugar Beet Disaster Program provided payments to sugar beet producers who were prevented from planting, or who otherwise suffered required levels of losses in 2001 or 2002 due to adverse weather. Authority for the Sugar Beet Disaster Program has expired.

Part 1482—Value-Added Wheat Gluten And Wheat Starch Product Market Development Program

The Value-Added Wheat Gluten and Wheat Starch Product Market Development Program made payments to U.S. producers for wheat gluten and wheat starch products to promote activities aimed at improving the economic viability of producers of such products. Authority for this program expired on June 5, 2003.

Informal Rulemaking Requirements

This rule relates to internal agency management. Therefore, pursuant to 5 U.S.C. 553, a notice of proposed rulemaking and an opportunity for public comment are not required, and this rule may be made effective less than 30 days after publication in the Federal Register. Also, because this rule relates to internal agency management, it is exempt from the provisions of Executive Order Nos. 12630, 12866, 12988, 13045, 13132, 13175, 13211, and 13272. Further, this action is not a rule as defined by the Regulatory Flexibility Act, 5 U.S.C. 601, et seq., and is therefore exempt from the provisions of that Act. In addition, this rule is not subject to the National Environmental Policy Act of 1969 (NEPA), 42 U.S.C 4321 et seq., Title II of the Unfunded Mandates Reform Act of 1995, 2 U.S.C. Ch. 17A, 25, or the E-Government Act of 2002, 44 U.S.C. 3501, note. Accordingly, as authorized by section 808 of the Small Business Regulatory Enforcement Fairness Act of 1996, 5 U.S.C. 808, this rule may be made effective upon publication.

Paperwork Reduction Act

This rule does not affect any information collections.

List of Subjects

7 CFR Part 700

Agriculture, Rural areas, Soil conservation, Water pollution control, Water resources, Water supply, Watersheds.

7 CFR Part 702

Agriculture, Soil conservation, Water pollution control, Water resources, Water supply, Watersheds.

7 CFR Part 711

Agriculture, Marketing quotas, Oilseeds, Price support programs, Reporting and recordkeeping requirements.

7 CFR Part 729

Agriculture, Agricultural commodities, Marketing quotas, Oilseeds, Price support programs.

7 CFR Part 752

Agriculture, Soil conservation, Water pollution control, Water resources, Water supply, Watersheds, Wildlife.

7 CFR Part 755

Agriculture, Rural areas, Soil conservation.

7 CFR Part 1413

Agriculture, Agricultural commodities, Grains, Price support programs.

7 CFR Part 1446

Agriculture, Agricultural commodities, Marketing quotas, Oilseeds, Price support programs.

7 CFR Part 1470

Agriculture, Agricultural commodities, Fruits, Price support programs.

7 CFR Part 1479

Agriculture, Agricultural commodities, Crop Insurance, Grains, Fruits.

7 CFR Part 1480

Agricultural commodities, Aquaculture, Crop Insurance, Grains.

7 CFR Part 1481

Agricultural commodities, Sugar.

7 CFR Part 1482

Agricultural commodities, Grains.

CHAPTER VII—[AMENDED]

Accordingly, under the authorities cited in the preamble, and the general rulemaking authority of 5 U.S.C. 301, 7 CFR Chapter VII is amended by removing parts 700, 702, 711, 729, 752, 755, 1413, 1446, 1470, 1479, 1480, 1481 and 1482.

Signed at Washington, DC on September 6, 2006.
Teresa C. Lasseter,
Administrator, Farm Service Agency, Executive Vice President, Commodity Credit Corporation.

[FR Doc. 06-7678 Filed 9-14-06; 8:45 am]

BILLING CODE 3410-05-P